DEPARTMENT OF COMMERCE

International Trade Administration

Travel and Tourism Trade Mission to Taiwan, Japan and Korea

AGENCY: International Trade Administration, Department of Commerce.

ACTION: Notice.

SUMMARY: The United States Department of Commerce, International Trade Administration, U.S. and Foreign Commercial Service is amending notice for the Travel and Tourism Trade Mission to Taiwan, Japan and Korea scheduled for March 10-14, 2014, published at 78 FR 34344, June 7, 2013, to notify applicants that the fee for each additional participant (SME or larger) is $700 per participant.

FOR FURTHER INFORMATION CONTACT: Frank Spector, Office of Industry and Analysis, Trade Promotion Programs, Phone: 202-482-2054; Fax: 202-482-9000, Email: Frank.Spector@trade.gov.

SUPPLEMENTARY INFORMATION: The International Trade Administration will have a senior executive lead the Travel and Tourism Trade Mission to Taiwan, Japan and Korea, March 10-14, 2014, published at 78 FR 34344, June 7, 2013. As previously published, the notice did not specify that there would be a fee charged for each additional participant.

Amendments

For these reasons, the Mission Description of the Notice of the Travel and Tourism Trade Mission to Taiwan, Japan and Korea is amended to read as follows:

Fees and Expenses

After a company has been selected to participate in the mission, a payment to the Department of Commerce in the form of a participation fee is required.

This Trade Mission is organized as three separate segments (Taiwan, Korea and Japan). Companies may choose to participate in one, two or all three segments. The fee for participating in more than one segment is the sum of the individual segments.

For business-to-business meetings in Taiwan only (not traveling to an additional trade mission country), the participation fee will be $1,400 for a small or medium-sized enterprise (SME) and $1,625 for large firms.

For business-to-business meetings in Japan only (not traveling to an additional trade mission country), the participation fee will be $1,725 for a small or medium-sized enterprise (SME) and $1,925 for large firms.

For business-to-business meetings in Korea only (not traveling to an additional trade mission country), the participation fee will be $1,275 for a small or medium-sized enterprise (SME) and $1,475 for large firms.

The fee for each additional firm representative (SME or large) is $700. Expenses for travel, lodging, some meals, and incidentals will be the responsibility of each mission participant.

Frank Spector,
Senior International Trade Specialist.

[FR Doc. 2013-27458 Filed 11-15-13; 8:45 am]

BILLING CODE 3510-DR-P